Title 3—

The President

Proclamation 7484 of October 10, 2001

General Pulaski Memorial Day, 2001

By the President of the United States of America

A Proclamation

I came here, where freedom is being defended,

to serve it, and to live and die for it.

—General Casimir Pulaski in a letter to General George Washington

Every year, on October 11, we honor the memory of Brigadier General Casimir Pulaski, a courageous soldier of liberty who bravely gave his life 222 years ago fighting for America's independence. The stories of General Pulaski's heroism during the Revolutionary War have been a source of inspiration for many generations of Americans, and his gallant sacrifice serves as a poignant reminder of the price patriots paid to obtain our liberty.

Pulaski, who was born in Poland in 1745, joined his first fight against tyranny and oppression at age 21, defending his beloved Poland against Prussian and Imperial Russian invaders. In numerous battles, Pulaski achieved fame as a calvary officer, earning promotion to commander of an army of Polish freedom fighters. But the aggressors ultimately overcame the Poles, and Pulaski was forced into exile. In 1777, Pulaski offered his services to America's fight for freedom and set sail from France to join the war for independence.

Far from his native land, Pulaski showed the same courageous combativeness on American soil that had gained him fame at home. Distinguishing himself in battle after battle, Pulaski earned a commission from the Continental Congress as a Brigadier General, and he was assigned by General Washington to command the Continental Army's calvary. In 1779, during the siege of Savannah, General Pulaski made the ultimate sacrifice, giving his life in battle so that our Nation might win its freedom. General Pulaski's valiant leadership earned him recognition as the “Father of the American cavalry”.

Ever since his heroic death, America has honored General Pulaski's memory in many ways, including the naming of counties, towns, and streets after him. Since 1910, a statue of General Pulaski has stood in Washington, D.C., permanently memorializing his patriotic contributions and noble sacrifice. Today, as we respond to the atrocities committed against the United States on September 11, we have been deeply moved by the tremendous outpouring of sympathy, support, and solidarity from our Polish friends, from the highest levels of the government to the thousands of Poles who placed flowers and candles at our Embassy gate. Our two nations, united by the virtues and ideals that General Pulaski embodied, will always remain friends and allies.

NOW, THEREFORE, I, GEORGE W. BUSH, President of the United States of America, by virtue of the authority vested in me by the Constitution and laws of the United States, do hereby proclaim Thursday, October 11, 2001, as General Pulaski Memorial Day. I encourage all Americans to commemorate this occasion with appropriate programs and activities paying tribute to Casimir Pulaski and honoring all those who defend the freedom of our great Nation.

IN WITNESS WHEREOF, I have hereunto set my hand this tenth day of October, in the year of our Lord two thousand one, and of the Independence of the United States of America the two hundred and twenty-sixth.

B

[FR Doc. 01-25940

Filed 10-11-01; 8:57 am]

Billing code 3195-01-P